DEPARTMENT OF TRANSPORTATION

Federal Aviation Administration

14 CFR Part 71

[Docket No. FAA-2018-0232; Airspace Docket No. 17-ANM-33]

RIN 2120-AA66

Amendment and Establishment of Multiple Air Traffic Service (ATS) Routes; Western United States

AGENCY: Federal Aviation Administration (FAA), DOT.

ACTION: Final rule.

SUMMARY: This action modifies six United States Area Navigation (RNAV) routes (Q-88, Q-90, Q-114, Q-126, Q-136, and Q-150) and establishes one RNAV route (Q-92) in the western United States. The routes support standard instrument departures (SIDs) and standard terminal arrival routes (STARs) for Denver International Airport. Additionally, the routes promote operational efficiencies for users and provide connectivity to current and proposed RNAV enroute procedures while enhancing capacity for adjacent airports.

DATES: Effective date 0901 UTC, June 20, 2019. The Director of the Federal Register approves this incorporation by reference action under Title 1 Code of Federal Regulations part 51, subject to the annual revision of FAA, Order 7400.11 and publication of conforming amendments.

ADDRESSES: FAA Order 7400.11C, Airspace Designations and Reporting Points, and subsequent amendments can be viewed online at http://www.faa.gov/air_traffic/publications/.

For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to http://www.archives.gov/federal-register/cfr/ibr-locations.html.

FAA Order 7400.11, Airspace Designations and Reporting Points, is published yearly and effective on September 15.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports amending the air traffic service route structure in the western United States to maintain the efficient flow of air traffic.

History

The FAA published a notice of proposed rulemaking in the Federal Register for Docket No. FAA-2018-0232 (83 FR 22891; May 17, 2018), and corrected on May 24, 2018 (83 FR 24047), to amend six United States Area Navigation (RNAV) routes (Q-88, Q-90, Q-114, Q-126, Q-136, and Q-150) and establish one RNAV route (Q-92) in the western United States. Interested parties were invited to participate in this rulemaking effort by submitting written comments on the proposal. No comments were received.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

The FAA is amending Title 14 Code of Federal Regulations (14 CFR) part 71 by amending United States RNAV routes Q-88, Q-90, Q-114, Q-126, Q-136, Q-150; and establishing United States RNAV routes Q-92. The route changes are outlined below.

Q-88: Q-88 extends from the HAKMN, NV, waypoint (WP) to the CHESZ, UT, WP. This action extends the route from the HAKMN, NV, WP to the DKOTA, SD, WP. The amended route connects airports in the northeastern United States (U.S.) and Canada with Los Angeles and Las Vegas and provides Denver International Airport departures to the north a routing to Minneapolis.

Q-90: Q-90 is amended from the DNERO, CA, WP to the WELKY, IA, WP. The amended route connects to Chicago O'Hare Airport. Additionally, the route provides an alternate south departure route from Denver International Airport to the Los Angeles, CA, basin satellite airports.

Q-92: Q-92 is established to support departures from Denver International Airport bound for airports in the midwest and east coast.

Q-114: Q-114 is amended from the NATEE, NV, WP to the LEONG, IA, WP. The route connects Chicago area airports to the Los Angeles basin airports. Additionally, the route supports Denver International Airport west departures to the Los Angeles, CA, basin satellite airports.

Q-126: Q-126 is amended from the TIPRE, CA, WP to the BRAFF, CO, WP. The route links airports on the U.S. west coast to airports in the Midwest. Q-126 adds utility by supporting Denver International Airport arrival traffic from the west. Additional waypoints were added to the airway to provide for oxygen escape routes.

Q-136: Q-136 is amended from the Coaldale, NV, VORTAC to the BAACN, IA, WP. The route links airports on the U.S. west coast to airports in the Midwest. Q-136 supports Denver International Airport west departures to the San Francisco Bay area and departures to the Midwest and east coast airports. Additional waypoints were added to the airway to provide for oxygen escape routes.

Q-150: Q-150 is amended from the STEVS, WA, WP to the EXHAS, KS, WP. The route supports overflight traffic between Seattle area airports and Dallas/Ft. Worth, Houston, as well as Calgary and Edmonton airports in Canada. Q-150 supports Denver departures enroute to Boise, ID; Portland, OR; and Seattle, WA.

United States Area Navigation Routes are published in paragraph 2006, of FAA Order 7400.11C dated August 13, 2018, and effective September 15, 2018, which is incorporated by reference in 14 CFR 71.1. The RNAV route listed in this document will be subsequently published in the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying six RNAV routes (Q-88, Q-90, Q-114, Q-126, Q-136, and Q-150) and establishing one RNAV route (Q-92) qualifies for categorical exclusion under the National Environmental Policy Act and its implementing regulations at 40 CFR part 1500, and in accordance with FAA Order 1050.1F—Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 2006 United States Area Navigation Routes

Q-88 HAKMN, NV to DKOTA, SD [Amended]
HAKMN, NV | WP | (Lat. 35°30′28.31″ N, long. 115°04′47.04″ W)
LAKRR, NV | WP | (Lat. 36°05′07.72″ N, long. 114°17′09.16″ W)
PROMT, UT | WP | (Lat. 37°30′06.70″ N, long. 111°52′12.94″ W)
ZAKRY, CO | WP | (Lat. 39°22′47.16″ N, long. 107°12′15.76″ W)
CHUWY, NE | WP | (Lat. 41°30′42.77″ N, long. 102°52′39.47″ W)
VIVID, SD | FIX | (Lat. 43°51′37.63″ N, long. 099°59′15.44″ W)
DKOTA, SD | WP | (Lat. 45°22′17.00″ N, long. 097°37′27.00″ W)
* * * * * * *
Q-90 DNERO, CA to WELKY, IA [Amended]
DNERO, CA | WP | (Lat. 35°02′07.14″ N, long. 114°54′16.39″ W)
YAMHA, CO | WP | (Lat. 37°04′15.31″ N, long. 108°51′39.33″ W)
DAAYE, CO | WP | (Lat. 38°00′40.43″ N, long. 105°46′44.19″ W)
WELKY, IA | WP | (Lat. 40°38′57.01″ N, long. 093°33′40.60″ W)
* * * * * * *
Q-92 CHUWY, NE to JORDY, IA [New]
CHUWY, NE | WP | (Lat. 41°30′42.77″ N, long. 102°52′39.47″ W)
KUTCH, NE | WP | (Lat. 41°48′23.73″ N, long. 101°01′44.06″ W)
MAASI, NE | WP | (Lat. 41°59′36.09″ N, long. 097°34′21.90″ W)
JORDY, IA | FIX | (Lat. 42°05′11.53″ N, long. 093°31′32.82″ W)
* * * * * * *
Q-114 NATEE, NV to LEONG, IA [Amended]
NATEE, NV | WP | (Lat. 35°37′14.00″ N, long. 115°22′26.00″ W)
BAWER, UT | WP | (Lat. 37°38′06.68″ N, long. 112°16′45.89″ W)
AVVVS, CO | FIX | (Lat. 40°02′07.82″ N, long. 104°46′03.16″ W)
AYOLE, NE | WP | (Lat. 41°08′59.40″ N, long. 100°43′20.63″ W)
LEONG, IA | WP | (Lat. 41°24′02.01″ N, long. 093°44′57.66″ W)
* * * * * * *
Q-126 TIPRE, CA to BRAFF, CO [Amended]
TIPRE, CA | WP | (Lat. 38°12′21.00″ N, long. 121°02′09.00″ W)
INSLO, NV | WP | (Lat. 38°40′44.90″ N, long. 117°17′53.20″ W)
LBATO, UT | WP | (Lat. 39°47′17.82″ N, long. 110°04′48.60″ W)
BASNN, CO | WP | (Lat. 39°55′53.98″ N, long. 109°00′50.73″ W)
BRAFF, CO | WP | (Lat. 40°08′35.62″ N, long. 104°23′26.75″ W)
* * * * * * *
Q-136 COALDALE, NV (OAL) to BAACN, IA [Amended]
COALDALE, NV (OAL) | VORTAC | (Lat.38°00′11.74″ N, long. 117°46′13.60″ W)
RUMPS, NV | WP | (Lat. 38°07′10.00″ N, long. 117°16′15.00″ W)
KATTS, NV | WP | (Lat. 38°20′00.00″ N, long. 116°20′00.00″ W)
WEEMN, UT | WP | (Lat. 39°21′57.00″ N, long. 109°58′02.80″ W)
COUGH, CO | WP | (Lat. 39°53′45.04″ N, long. 105°14′56.79″ W)
ZIRKL, NE | WP | (Lat. 40°07′56.94″ N, long. 101°22′17.29″ W)
BAACN, IA | WP | (Lat. 40°58′29.04″ N, long. 093°47′25.79″ W)
* * * * * * *
Q-150 STEVS, WA to EXHAS, KS [Amended]
STEVS, WA | WP | (Lat. 47°14′54.49″ N, long. 120°32′09.93″ W)
GANNE, WY | WP | (Lat. 43°18′37.17″ N, long. 109°30′23.85″ W)
DUUZE, KS | WP | (Lat. 38°51′00.00″ N, long. 101°42′00.00″ W)
EXHAS, KS | WP | (Lat. 38°20′04.70″ N, long. 101°09′35.23″ W)

Issued in Washington, DC, on March 11, 2019.
Rodger A. Dean Jr.,
Manager, Airspace Policy Group.

[FR Doc. 2019-04786 Filed 3-20-19; 8:45 am]

BILLING CODE 4910-13-P